DEPARTMENT OF HEALTH AND HUMAN SERVICES

Announcement of Meeting of the Secretary's Advisory Committee on National Health Promotion and Disease Prevention Objectives for 2020

AGENCY: Department of Health and Human Services, Office of the Secretary, Office of the Assistant Secretary for Health, Office of Disease Prevention and Health Promotion.

ACTION: Notice of Meeting.

Authority: 42 U.S.C. 217a, Section 222 of the Public Health Service Act, as amended. The Committee is governed by the provision of Public Law 92-463, as amended (5 U.S.C. appendix 2), which sets forth standards for the formation and use of advisory committees.

SUMMARY: The U.S. Department of Health and Human Services (HHS) announces the next Federal advisory committee meeting regarding the national health promotion and disease prevention objectives for 2020. This meeting will be open to the public and will be held online via WebEx software. The Secretary's Advisory Committee on National Health Promotion and Disease Prevention Objectives for 2020 will address efforts to implement the nation's health promotion and disease prevention objectives and strategies to improve the health status and reduce health risks for Americans by the year 2020. The Committee will provide to the Secretary of Health and Human Services advice and consultation for implementing Healthy People 2020, the nation's health promotion and disease prevention goals and objectives, and provide recommendations for initiatives to occur during the implementation phase of the goals and objectives.

DATES: The Committee will meet on June 30, 2011, from Noon to 2 p.m. Eastern Daylight Time (EDT).

ADDRESSES: The meeting will be held on the Internet via WebEx software. For detailed instructions about how to make sure that your windows computer and browser are set up for WebEx, please visit the “Secretary's Advisory Committee” Web page of the Healthy People Web site (http://healthypeople.gov/2020/about/advisory/default.aspx) and click on “Register to Attend.”

FOR FURTHER INFORMATION CONTACT: Emmeline Ochiai, Designated Federal Officer, Secretary's Advisory Committee on National Health Promotion and Disease Prevention Objectives for 2020, U.S. Department of Health and Human Services, Office of the Assistant Secretary for Health, Office of Disease Prevention and Health Promotion, 1101 Wootton Parkway, Room LL-100, Rockville, MD 20852, (240) 453-8259 (telephone), (240) 453-8281 (fax). Additional information is available on the Internet at http://www.healthypeople.gov.

SUPPLEMENTARY INFORMATION: Purpose of Meeting: The Committee will develop its recommendations regarding the Healthy People 2020 Leading Health Indicators.

Background: Healthy People provides science-based, 10-year national objectives for promoting health and preventing disease. Since 1979, Healthy People has set and monitored national health objectives to meet a broad range of health needs, encourage collaborations across sectors, guide individuals toward making informed health decisions, and measure the impact of our prevention and health promotion activities. On December 2, 2010, HHS launched Healthy People 2020 and its 42 topic areas. Healthy People 2020 reflects assessments of major risks to health and wellness, changing public health priorities, and emerging issues related to our nation's health, preparedness, and prevention.

Public Participation at Meeting: Members of the public are invited to listen to the online Committee meeting. There will be no opportunity for oral public comments during the online Committee meeting. Written comments, however, can be e-mailed to healthypeople@nhic.org.

To listen to the Committee meeting, individuals must pre-register to attend at the Healthy People Web site located at http://www.healthypeople.gov. Participation in the meeting is limited. Registrations will be accepted until maximum capacity is reached and must be completed by 5 p.m. E.D.T. on June 29, 2011. A waiting list will be maintained should registrations exceed capacity. Individuals on the waiting list will be contacted as additional space for the meeting becomes available.

Registration questions may be directed to Hilary Scherer at HP2020@norc.org (e-mail), (301) 634-9374 (phone), or (301) 634-9301 (fax).

Dated: May 26, 2011.
Carter Blakey,
Acting Director, Office of Disease Prevention and Disease Prevention.

[FR Doc. 2011-14338 Filed 6-8-11; 8:45 am]

BILLING CODE 4150-32-P